DEPARTMENT OF COMMERCE

National Oceanic and Atmospheric Administration

50 CFR Part 660

RIN 0648-XD339

Fisheries Off West Coast States; Coastal Pelagic Species Fisheries; Amendment 14 to the Coastal Pelagic Species Fishery Management Plan

AGENCY: National Marine Fisheries Service (NMFS), National Oceanic and Atmospheric Administration (NOAA), Commerce.

ACTION: Notice of agency decision.

SUMMARY: NMFS announces the approval of Amendment 14 to the Coastal Pelagic Species (CPS) Fishery Management Plan (FMP). The purpose of Amendment 14 is to specify an estimate of maximum sustainable yield (MSY) for the northern subpopulation of northern anchovy in the CPS FMP. This action promotes the goals and objectives of the Magnuson-Stevens Fishery Conservation and Management Act, the FMP, and other applicable laws.

DATES: The amendment was approved on March 23, 2015.

ADDRESSES: Electronic copies of the CPS FMP as amended through Amendment 14 are available from the Pacific Fishery Management Council (Council) Web site at: http://www.pcouncil.org/coastal-pelagic-species/fishery-management-plan-and-amendments/. Requests for the list of references used in this document should be addressed to: NMFS, West Coast Region, Sustainable Fisheries Division, 501 West Ocean Blvd., Suite 4200, Long Beach, CA 90802. c/o Joshua Lindsay

FOR FURTHER INFORMATION CONTACT: Joshua B. Lindsay, Sustainable Fisheries Division, NMFS, at 562-980-4034 or Kerry Griffin, Pacific Fishery Management Council, at 503-820-2280.

SUPPLEMENTARY INFORMATION: The CPS fishery in the U.S. exclusive economic zone (EEZ) off the West Coast is managed under the CPS FMP, which was developed by the Council pursuant to the Magnuson-Stevens Fishery Conservation and Management Act (Magnuson-Stevens Act), 16 U.S.C. 1801 et seq. Species managed under the CPS FMP include Pacific sardine, Pacific mackerel, jack mackerel, northern anchovy, market squid and krill. The CPS FMP was approved by the Secretary of Commerce and was implemented by regulations at 50 CFR part 660, subpart I.

The Magnuson-Stevens Act requires that each regional fishery management council submit proposed amendments to a fishery management plan to NMFS for review and approval, disapproval, or partial approval by the Secretary of Commerce (Secretary). The Magnuson-Stevens Act also requires that, upon receiving a fishery management plan amendment, NMFS immediately publish in the Federal Register a notice that the amendment is available for public review and comment. NMFS determined that Amendment 14 to the FMP is consistent with the Magnuson-Stevens Act and other applicable laws, and the Secretary approved Amendment 14 on March 23, 2015. The December 24, 2014, Notice of Availability contains additional information on this action. No changes to Federal regulations are necessary to implement Amendment 14. Amendment 14 will change the CPS FMP so that it now includes a specification of an estimate MSY for the northern subpopulation of northern anchovy. NMFS has determined that the specification of an FMSY of 0.3 as the MSY reference for the northern subpopulation of northern anchovy point as recommended by the Council is appropriate and supported by the best available information.

At the November 2013 Council meeting the Council adopted an FMSY of 0.3 as the best estimate of MSY for the northern subpopulation of northern anchovy and voted to amend the CPS FMP accordingly to include this reference point. This action was based on data compiled by the CPS Management Team and a recommendation by the Council's Science and Statistical Committee (SSC). An FMSY equal to 0.3, the default exploitation rate for Pacific mackerel, a stock for which more information is known regarding stock variability and productivity, was deemed an appropriate specification of MSY by the SSC. This was deemed appropriate by the SSC because the best available information regarding northern anchovy shows that northern anchovy are likely to be at least as productive as Pacific mackerel, and likely have higher natural mortality, which would typically be associated with a higher FMSY. Speaking further to their recommendation of the FMSY, the SSC stated that due to both high uncertainty in the available biomass estimates and large fluctuations in stock biomass that are known to occur in species such as anchovy, a fixed biomass-based approach to specifying MSY would likely not be appropriate. Additionally, because the northern subpopulation of northern anchovy is lightly fished, with inconsistent effort over time, the existing time series of catch was likely an unreliable indicator of stock status and therefore determining a catch-based MSY would not be meaningful.

The Notice of Availability for Amendment 14 was published in the Federal Register on December 24, 2014 (79 FR 77426), with a 60-day comment period that ended on February 23, 2015. NMFS received one comment letter during the public comment period. No changes were made in response to these comments. NMFS summarizes and responds to that comment below.

Comment: The majority of points raised in the comment were outside the scope of Amendment 14 and instead were related to the CPS FMP as a whole and/or other aspects of the management of the northern subpopulation of northern anchovy beyond the establishment of an MSY reference point, which is the purpose and substance of Amendment 14. Those comments will not be addressed here. However, NMFS found the comments valuable and will consider them for future management planning, and will ensure the Council is aware of the comments. Related to Amendment 14, the commenter questioned some of the scientific rationale underlying the MSY recommendation, specifically the commenter states that productivity is not constant and states that the MSY estimate does not account for the current productivity of the stock and may overestimate the productivity of the stock during periods of low natural recruitment, which the commenter states currently appears to be the case from recent NMFS, CalCOFI, and independent surveys and that the use of information on Pacific mackerel to help determine the estimate may not be appropriate. The commenter however did not state that the Amendment should not be approved and expressed encouragement by the establishment of this reference point.

Response: NMFS agrees with the commenter that productivity of the northern subpopulation of northern anchovy is likely not constant over time. Much like other CPS stocks, the northern subpopulation of northern anchovy is likely subject to relatively large fluctuations in stock biomass that are driven by changes in environmental conditions. As described below, this specific life history trait was in fact part of the rationale for the SSC's recommendation to the Council and subsequent adoption by the Council of an FMSY equal to 0.3 over a fixed biomass-based or catch-based MSY that may not fully take these factors into consideration. Additionally, NMFS points out that by definition MSY is a long-term average, therefore at times any estimate may be an overestimate or an underestimate, however, the MSY estimate is intended to reflect a fishing mortality rate that does not jeopardize the capacity of a stock or stock complex to produce MSY.

As it relates to the specific information used to make the determination that an FMSY equal to 0.3 is appropriate for use as the MSY reference point for the northern subpopulation of northern anchovy, NMFS has determined the best available scientific information was used. In addition, an FMSY equal to 0.3 was recommended to the Council by its SSC, the scientific advisory body to the Council tasked with making such recommendations based on the best available information. Although the commenter states that there is recent survey information that is contrary to this determination, no specific evidence or citations for this referenced information is provided to show that the a FMSY equal to 0.3 does not represent the best available science for estimating MSY for this stock. Furthermore, the commenter references the California Cooperative Oceanic Fisheries Investigations (CalCOFI) survey however this survey only occurs off of southern and south-central California, were as the southern extent of the habitat range for the northern subpopulation of northern anchovy is northern California. In making their recommendation on MSY the SSC reviewed all of the available information on the stock, which although limited, included information such as egg and larvae survey data, density and distribution data, stock productivity and vulnerability information and landings data, which was prepared and presented to them by the Council's CPSMT (Agenda Item I.2.c, CPSMT Report 1, November 2010 and references contained within). Included in this scientific and fishery information, and specifically examined for potential use in estimating MSY, were (the only) two estimates of biomass: One from the 1970s (Richardson 1981), and the other from an acoustic survey conducted by researchers at the Southwest Fisheries Science Center in 2008 as well as the historical time series of catch going back to the 1950s. In reviewing this information, however, the SSC noted that the available biomass estimates were uncertain and, because there were only two, they provided little information on the variability of stock biomass over time. Furthermore, the SSC also noted that because the northern subpopulation of anchovy has been lightly fished, with inconsistent effort, that the time series of catch was an unreliable indicator of annual stock status. It was therefore determined that because of the paucity of biomass data and the nature of the landings information, that a MSY estimate based either of these sources would not be representative of the biology of the stock, and that it would be more appropriate to use a rate-based approach to estimate MSY instead of biomass or catch-based method.

Although general biological information on the northern subpopulation of northern anchovy exists, specific productivity information is limited; therefore the SSC looked at information available for the other CPS stocks to help determine an appropriate rate. For instance, the default exploitation rate for Pacific mackerel, a stock for which more information is known regarding stock variability and productivity (stock assessments for Pacific mackerel have occurred since 1978, with annual assessments generally since 2000), is 0.3. Based on what information is known regarding northern anchovy, they are assumed to be at least as productive as Pacific mackerel, and likely have higher natural mortality (Patrick et al. 2009, PFMC 1998, Crone et al. 2011) which would typically be associated with a higher FMSY. Therefore an FMSY equal to 0.3 was deemed an appropriate specification of MSY by the SSC, for the northern subpopulation of northern anchovy, in part, because the previous determination of 0.3 as the default exploitation rate for Pacific mackerel and the existing knowledge of the two stocks.

References Cited

The complete citations for the references used in this document can be obtained by contacting NMFS (See ADDRESSES and FOR FURTHER INFORMATION CONTACT).

Authority: 16 U.S.C. 1801 et seq.

Dated: March 23, 2015.
Samuel D. Rauch III,
Deputy Assistant Administrator for Regulatory Programs, National Marine Fisheries Service.

[FR Doc. 2015-07289 Filed 3-31-15; 8:45 am]

BILLING CODE 3510-22-P